GENERAL SERVICES ADMINISTRATION

[Notice-MA-2015-05; Docket No. 2015-0002, Sequence No. 27]

Federal Management Regulations; Date Change for Annual Mail Management Reporting

AGENCY: Office of Government-wide Policy, General Services Administration (GSA).

ACTION: Notice of a bulletin.

SUMMARY: The General Services Administration has issued Federal Management Regulation (FMR) Bulletin G-06, which provides guidance to large Executive Branch Federal agencies of the annual mail management reporting requirement. The bulletin provides agencies with information on the reporting instructions and training information in the Simplified Mail Accountability Reporting Tool (SMART). FMR Bulletin G-06 and all other FMR bulletins are located at http://www.gsa.gov/fmrbulletins.

DATES: Effective Date: October 7, 2015.

FOR FURTHER INFORMATION CONTACT: Ms. Cynthia Patterson, Office of Government-wide Policy (MAF), Office of Asset and Transportation Management, General Services Administration at 703-589-2641 or via email at cynthia.patterson@gsa.gov. Please cite FMR Bulletin G-06.

SUPPLEMENTARY INFORMATION: FMR Bulletin G-06 provides large Federal agencies with reporting instructions and training information in SMART and is consistent with the Federal Management Regulation.

Dated: September 28, 2015.
Christine Harada,
Associate Administrator, Office of Government-wide Policy, General Services Administration.

[FR Doc. 2015-25460 Filed 10-6-15; 8:45 am]

BILLING CODE 6820-14-P